COMMODITY FUTURES TRADING COMMISSION

Petition of the Chicago Mercantile Exchange, Inc. for Exemptive Relief, Pursuant to Section 4(c) of the Commodity Exchange Act, From the Requirement That the China Foreign Exchange Trade System and National Interbank Funding Center or its Members Register as Futures Commission Merchants

AGENCY: Commodity Futures Trading Commission.

ACTION: Re-opening of comment period.

SUMMARY: The Commodity Futures Trading Commission (“Commission”) published on August 23, 2007, a notice of proposed order and request for comment regarding a petition filed with the Commission by the Chicago Mercantile Exchange, Inc. (“CME”) applying for exemptive relief, pursuant to Section 4(c) of the Commodity Exchange Act.¹ CME's petition applies for exemptive relief from the requirement that the China Foreign Exchange Trade system and National Interbank Funding Center (“CFETS”) or its members register as futures commission merchants (“FCMs”). An interested party has requested that the comment period be extended by two weeks due to the novelty of the issues involved. The Commission is extending the comment period to October 9, 2007.

¹ 72 FR 48262 (August 23, 2007).

DATES: Comments must be received on or before October 9, 2007.

ADDRESSES: Comments may be submitted by any of the following methods:

• Federal eRulemaking Portal: http://www.regulations.gov/http://frwebgate.access.gpo/cgi-bin/leaving. Follow the instructions for submitting comments.

• E-mail: secretary@cftc.gov. Include “CME Petition for Exemption from FCM Registration on Behalf of CFETS” in the subject line of the message.

• Fax: 202/418-5521.

• Mail: Send to David S. Stawick, Secretary, Commodity Futures Trading Commission, Three Lafayette Centre, 1155 21st Street, NW., Washington, DC 20581.

• Courier: Same as mail above.

All comments received will be posted without change to http://www.CFTC.gov/.

FOR FURTHER INFORMATION CONTACT: Robert B. Wasserman, Associate Director, 202-418-5092, rwasserman@cftc.gov; Division of Clearing and Intermediary Oversight, Commodity Futures Trading Commission, Three Lafayette Centre, 1151 21st Street, NW., Washington, DC 20581.

Issued in Washington, DC, on September 24, 2007 by the Commission.
David A. Stawick,
Secretary of the Commission.

[FR Doc. E7-19222 Filed 9-26-07; 8:45 am]

BILLING CODE 6351-01-P